DEPARTMENT OF LABOR

Occupational Safety and Health Administration

[Docket No. NRTL-3-90]

Southwest Research Institute, Expansion of Recognition

AGENCY: Occupational Safety and Health Administration (OSHA), Labor.

ACTION: Notice.

SUMMARY: This notice announces the Agency's final decision on the application of Southwest Research Institute (SwRI) for expansion of its recognition as a Nationally Recognized Testing Laboratory (NRTL) under 29 CFR 1910.7.

EFFECTIVE DATES: This recognition becomes effective on November 22, 2000 and, unless modified in accordance with 29 CFR 1910.7, continues in effect while SwRI remains recognized by OSHA as an NRTL.

FOR FURTHER INFORMATION CONTACT: Bernard Pasquet, Office of Technical Programs and Coordination Activities, NRTL Program, Room N3653 at the above address, or phone (202) 693-2110.

SUPPLEMENTARY INFORMATION:

Notice of Final Decision

The Occupational Safety and Health Administration (OSHA) hereby gives notice of the expansion of recognition of Southwest Research Institute (SwRI) as a Nationally Recognized Testing Laboratory (NRTL). SwRI's expansion request covers the use of an additional test standard.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

When first recognized, OSHA identified the Department of Fire Technology as the SwRI unit to which the recognition would apply. OSHA will no longer identify solely this department for purposes of recognition since other organizational units of SwRI participate in its NRTL-related activities.

SwRI submitted a request, dated April 5, 2000 (see Exhibit 10), to expand its recognition as an NRTL for one additional test standard. The NRTL included adequate information in support of its request. In its cover letter, SwRI stated that its Electromagnetic Compatibility (EMCR) Section and its Environmental Testing Section would participate in testing products to the requested test standard.

OSHA published the required notice in the Federal Register (65 FR 46078, 07/26/2000) to announce the SwRI expansion request. The notice included a preliminary finding that SwRI could meet the requirements for expansion of its recognition, and OSHA invited public comment on the application by September 25, 2000. OSHA received no comments concerning this application.

In processing SwRI's request, OSHA did perform an on-site review of SwRI's NRTL testing facilities. In a memo dated June 12, 2000 (see Exhibit 11), NRTL Program assessment staff recommended the expansion of SwRI's recognition to include the additional test standard.

The most recent notices published by OSHA for the SwRI recognition covered the NRTL's renewal and expansion of recognition, which the Agency announced on November 10, 1998 (63 FR 63086) and granted on March 9, 1999 (64 FR 11503).

You may obtain or review copies of all public documents pertaining to the application by contacting the Docket Office, Occupational Safety and Health Administration, U.S. Department of Labor, 200 Constitution Avenue, NW., Room N2625, Washington, D.C. 20210, telephone: (202) 693-2350. You should refer to Docket No. NRTL-3-90, the permanent records of public information on the SwRI recognition.

The current address of the SwRI facility (site) that OSHA recognizes for SwRI is: Southwest Research Institute, 6620 Culebra Road, Post Office Drawer 28510, San Antonio, Texas 78228.

Final Decision and Order

The NRTL Program staff has examined the application and other pertinent information. Based upon this examination and the assessor's recommendation, OSHA finds that SwRI has met the requirements of 29 CFR 1910.7 for expansion of its recognition to include the additional test standard, listed below, subject to the limitations and conditions listed below. Pursuant to the authority in 29 CFR 1910.7, OSHA hereby expands the recognition of SwRI, subject to these limitations and conditions.

Limitations

OSHA hereby expands the recognition of SwRI for testing and certification of products to demonstrate conformance to the following additional test standard: UL 1950 Technology Equipment Including Electrical Business Equipment. OSHA has determined that this test standard meets the requirements for an appropriate test standard, within the meaning of 29 CFR 1910.7(c).

The Agency's recognition of SwRI, or any NRTL, for a particular test standard is always limited to equipment or materials (products) for which OSHA standards require third party testing and certification before use in the workplace. As a result, OSHA's recognition of an NRTL for a test standard excludes any product(s), falling within the scope of the test standard, for which OSHA has no such requirements.

The above test standard is approved as an American National Standard by the American National Standards Institute (ANSI). However, for convenience, we use the designation of the standards developing organization (e.g., UL 22) for the standard, as opposed to the ANSI designation (e.g., ANSI/UL 22). Under our procedures, an NRTL recognized for an ANSI approved test standard may use either the latest proprietary version of the test standard or the latest ANSI version of that standard, regardless of whether it is currently recognized for the proprietary or ANSI version. Contact ANSI or the ANSI web site to find out whether or not a standard is currently ANSI approved.

The above standard had not been withdrawn by the standards developing organization (SDO) at the time of the preparation of the notice of preliminary finding.

Conditions

SwRI must also abide by the following conditions of the recognition, in addition to those already required by 29 CFR 1910.7:

OSHA must be allowed access to the SwRI facilities and records for purposes of ascertaining continuing compliance with the terms of its recognition and to investigate as OSHA deems necessary;

If SwRI has reason to doubt the efficacy of any test standard it is using under this program, it must promptly inform the organization that developed the test standard of this fact and provide that organization with appropriate relevant information upon which its concerns are based;

SwRI must not engage in or permit others to engage in any misrepresentation of the scope or conditions of its recognition. As part of this condition, SwRI agrees that it will allow no representation that it is either a recognized or an accredited Nationally Recognized Testing Laboratory (NRTL) without clearly indicating the specific equipment or material to which this recognition is tied, or that its recognition is limited to certain products;

SwRI must inform OSHA as soon as possible, in writing, of any change of ownership, facilities, or key personnel, and of any major changes in its operations as an NRTL, including details;

SwRI will continue to meet all the terms of its recognition and will always comply with all OSHA policies pertaining to this recognition;

SwRI will continue to meet the requirements for recognition in all areas where it has been recognized; and

SwRI will always cooperate with OSHA to assure compliance with the spirit as well as the letter of its recognition and 29 CFR 1910.7.

Signed at Washington, DC, this 3rd day of November, 2000.
Charles N. Jeffress,
Assistant Secretary.

[FR Doc. 00-29845 Filed 11-21-00; 8:45 am]

BILLING CODE 4510-26-P